ENVIRONMENTAL PROTECTION AGENCY

[EPA-HQ-OAR-2011-0742; FRL-9959-69-OEI]

Information Collection Request Submitted to OMB for Review and Approval; Comment Request; Air Pollution Regulations for Outer Continental Shelf (OCS) Activities

AGENCY: Environmental Protection Agency (EPA).

ACTION: Notice.

SUMMARY: The Environmental Protection Agency (EPA) has submitted an information collection request (ICR), “Air Pollution Regulations for Outer Continental Shelf (OCS) Activities” to the Office of Management and Budget (OMB) for review and approval in accordance with the Paperwork Reduction Act. This is a proposed extension of the ICR. Public comments were previously requested via the Federal Register on May 29, 2015, during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 9, 2017.

ADDRESSES: Submit your comments, referencing Docket ID No. EPA-HQ-OAR-2011-0724, to (1) the EPA online using http://www.regulations.gov (our preferred method), by email to a-and-r-docket@epa.gov or by mail to: EPA Docket Center, Environmental Protection Agency, Mail Code 28221T, 1200 Pennsylvania Ave. NW., Washington, DC 20460, and (2) OMB via email to oira_submission@omb.eop.gov. Address comments to OMB Desk Officer for EPA.

The EPA's policy is that all comments received will be included in the public docket without change including any personal information provided, unless the comment includes profanity, threats, information claimed to be Confidential Business Information (CBI) or other information whose disclosure is restricted by statute.

FOR FURTHER INFORMATION CONTACT: Ben Garwood, Air Quality Policy Division, Office of Air Quality Planning and Standards, C504-03, U.S. Environmental Protection Agency, Research Triangle Park, NC 27709; telephone number: (919) 541-1358; fax number: (919) 541-5509; email address: garwood.ben@epa.gov.

SUPPLEMENTARY INFORMATION: Supporting documents which explain in detail the information that the EPA will be collecting are available in the public docket for this ICR. The docket can be viewed online at https://www.regulations.gov or in person at the EPA Docket Center, WJC West, Room 3334, 1301 Constitution Ave. NW., Washington, DC. The telephone number for the Docket Center is (202) 566-1744. For additional information about the EPA's public docket, visit https://www.epa.gov/dockets.

Abstract: Section 328 of the Clean Air Act gives EPA responsibility for regulating air pollution from outer continental shelf (OCS) sources located offshore of the states along the Pacific and Atlantic Coasts, and along the eastern Gulf of Mexico coast (off the coast of Florida). In general, these OCS sources must obtain preconstruction permits (usually Prevention of Significant Deterioration or “PSD” permits) and title V operating permits, and then maintain ongoing compliance with their permit conditions. Industry respondents include owners or operators of existing and new or modified OCS sources. These respondents must prepare permit applications and, after receiving their permits, conduct testing, monitoring, recordkeeping and reporting as required by their permits. The recordkeeping and reporting requirements are necessary so that the EPA can determine whether these sources are meeting all the requirements that apply to them. The EPA has delegated the authority to implement and enforce the OCS regulations for sources located off the coast of California to four local air pollution control agencies, and for sources located off a portion of the Atlantic Coast to three state agencies. These agency respondents must review sources' permit applications and reports, issue permits, observe performance tests and conduct inspections to ensure that the sources are meeting all the requirements that apply to them. Section 176(c) of the Clean Air Act (42 U.S.C. 7401 et seq.) requires that all federal actions conform with the State Implementation Plans (SIPs) to attain and maintain the NAAQS. Depending on the type of action, the federal entities must collect information themselves, hire consultants to collect the information or require applicants/sponsors of the federal action to provide the information.

The type and quantity of information required will depend on the circumstances surrounding the action. First, the entity must make an applicability determination. If the source is located within 25 miles of the state's seaward boundary as established in the regulations, the requirements are the same as those that would be applicable if the source were located in the corresponding onshore area. State and local air pollution control agencies are usually requested to provide information concerning regulation of offshore sources and are provided opportunities to comment on the proposed determinations. The public is also provided an opportunity to comment on the proposed determinations.

Form numbers: None.

Respondents/affected entities: Entities potentially affected by this action are those which must apply for and obtain a permit pursuant the OCS permit program. In addition, state and local agencies that have been delegated authority to implement and enforce the OCS permit program, which must review permit applications and issue permits, are affected entities.

Respondent's obligation to respond: Mandatory (see 40 CFR part 55).

Estimated number of respondents: 37 industrial facilities and 5 state and local permitting agencies.

Frequency of response: On occasion, as necessary.

Total estimated burden: 27,018 hours (per year). Burden is defined at 5 CFR 1320.03(b).

Total estimated cost: $2,365,385 (per year). This includes $30,816 annually in Operation and Maintenance costs.

Changes in estimates: There is a decrease of 1,156 hours in the total estimated respondent burden compared with the ICR most recently approved by OMB. This decrease is primarily due to a decrease in the projected number of OCS sources subject to the program.

Courtney Kerwin,
Director, Regulatory Support Division.

[FR Doc. 2017-09168 Filed 5-9-17; 8:45 am]

BILLING CODE 6560-50-P